DEPARTMENT OF LABOR

Occupational Safety and Health Administration

[Docket No. ICR-1218-0219(2002)]

Servicing Multi-Piece and Single Piece Rim Wheels Standard; Extension of the Office of Management and Budget's Approval of Information-Collection (Paperwork) Requirements

AGENCY: Occupational Safety and Health Administration (OSHA), Labor.

ACTION: Request for comment.

SUMMARY: OSHA requests comment concerning its proposed extension of the information-collection requirements specified by its Servicing Multi-Piece and Single Piece Rim Wheels Standard (29 CFR 1910.177). The paperwork provision in the Standard specifies a requirement for the manufacturer or a Registered Professional Engineer to certify that repaired restraining devices and barriers meet the strength requirements specified in the Standard. The purpose of the requirement is to reduce employees' risk of death or serious injury by ensuring that restraining devices and barriers used during the servicing of multi-piece rim wheels are capable of withstanding the forces that may be transmitted to them if separation occurs during rim servicing.

DATES: Submit written comments on or before July 2, 2002.

ADDRESSES: Submit written comments to the Docket Office, Docket No. ICR-1218-0219(2002), OSHA, U.S. Department of Labor, Room N-2625, 200 Constitution Avenue, NW., Washington, DC 20210; telephone: (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone: (202) 693-2222. A copy of the Agency's Information-Collection Request (ICR) supporting the need for the information collection specified by the Servicing of Multi-Piece and Single Piece Rim Wheels Standard is available for inspection and copying in the Docket Office, or by requesting a copy from Theda Kenney at (202) 693-2222, or Todd Owen at (202) 693-2444. For electronic copies of the ICR, contact OSHA on the Internet at http://www.osha.gov and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct.

The Servicing of Multi-Piece and Single Piece Rim Wheels Standard (i.e., “the Standard”) specifies one paperwork requirement. The following section describes who uses the information collected under the requirement, as well as how they use it. The purpose of the requirement is to reduce employees' risk of death or serious injury by ensuring that restraining devices used by them during the servicing of multi-piece and single piece rim wheels are in safe operating condition. Based on previous ICR approvals, OSHA has determined that the training requirements in paragraphs (c), (f), and (g) of the Standard are not collection of information requirements under the Paperwork Reduction Act.

Certification of Repair (paragraph (d)(3)(iv)) This paragraph requires that when restraining devices and barriers are removed from service because they have been found to be defective, they shall not be returned to service until they are repaired and reinspected. If the repair is of a structural nature, the manufacturer or a Registered Professional Engineer must certify that the strength requirements specified in paragraph (d)(3)(i) of the standard have been met.

The certification records are used to assure that equipment has been properly repaired. The certification records also provide the most efficient means for the compliance officers to determine that an employer is complying with the Standard.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend the Office of Management and Budget's (OMB) approval of the collection-of-information requirements specified by the Servicing Multi-Piece and Single Piece Rim Wheels Standard (29 CFR 1910.177). The Agency will summarize the comments submitted in response to this notice, and will include this summary in its request to OMB to extend the approval of these information-collection requirements.

Type of Review: Extension of a currently-approved information-collection requirement.

Title: Servicing Multi-Piece and Single Piece Rim Wheels (29 CFR 1910.177).

OMB Number: 1218-0219.

Affected Public: Business or other for-profit; not-for-profit institutions; Federal government, State, local, or tribal governments.

Number of Respondents: 8.

Frequency of Recordkeeping: On occasion.

Average Time per Response: 5 minutes (.08 hour).

Total Annual Hours Requested: 1 hour.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC on April 30, 2002.
John L. Henshaw,
Assistant Secretary of Labor.

[FR Doc. 02-11010 Filed 5-2-02; 8:45 am]

BILLING CODE 4510-26-M